DEPARTMENT OF THE INTERIOR

National Park Service

[NPS-SERO-SAJU-19519; PPSESEROC3, PMP00UP05.YP0000]

Environmental Impact Statement for the San Juan Promenade Extension Project From El Morro Floating Battery Area to San Juan Bautista Plaza

AGENCY: National Park Service, Interior.

ACTION: Notice of termination.

SUMMARY: The National Park Service (NPS) is terminating preparation of an environmental impact statement (EIS) for the San Juan Promenade Extension project from El Morro Floating Battery Area to San Juan Bautista Plaza in San Juan National Historic Site, Puerto Rico. Instead, the NPS will be preparing an environmental assessment (EA) to assist the NPS in evaluating the impacts of the proposed extension of Paseo del Morro.

DATES: The EA for the extension of Paseo del Morro National Recreational Trail is expected to be distributed for public comment in the winter of 2016. The public comment period for the EA and the dates, times, and locations of public meetings will be announced through the NPS Planning, Environment, and Public Comment (PEPC) Web site http://parkplanning.nps.gov/saju the San Juan National Historic Site Web site, and in local media outlets.

ADDRESSES: San Juan National Historic Site, 501 Calle Norzagaray, San Juan, Puerto Rico 00901.

FOR FURTHER INFORMATION CONTACT: Walter J. Chavez, San Juan National Historic Site, 501 Calle Norzagaray, San Juan, Puerto Rico 00901, by phone at (787) 729-6777.

SUPPLEMENTARY INFORMATION: Pursuant to the National Environmental Policy Act, 42 U.S.C. 4321 et seq., NPS announces the termination of the EIS for the Paseo del Morro National Recreational Trail Extension, San Juan National Historic Site, San Juan, Puerto Rico. A Notice of Intent to prepare an EIS was published in the Federal Register on November 15, 2012 (77 FR 68146, Column 3). The NPS then engaged in a scoping process which included public meetings and consultation with federal agencies, and the initial development of a range of management alternatives with preliminary environmental impact assessment. Due to the results of the preliminary analysis of the alternatives and removal of a proposed project element, the NPS has determined that there is no potential for significant impacts to park resources and values. In addition, no concerns or issues were expressed during the public scoping process that would indicate the potential for highly controversial impacts. For these reasons, the NPS determined the proposal would not constitute a major federal action requiring an EIS.

The responsible official is the Regional Director, NPS Southeast Region, 100 Alabama Street SW., 1924 Building, Atlanta, Georgia 30303.

Dated: February 2, 2016.
Shawn T. Benge,
Acting Regional Director, Southeast Region.

[FR Doc. 2016-04645 Filed 3-2-16; 8:45 am]

BILLING CODE 4310-JD-P